ENVIRONMENTAL PROTECTION AGENCY

[ER-FRL-6623-6]

Environmental Impact Statements; Notice of Availability

Responsible Agency: Office of Federal Activities, General Information (202) 564-7167 or www.epa.gov/oeca/ofa.

Weekly receipt of Environmental Impact Statements

Filed November 05, 2001 Through November 09, 2001

Pursuant to 40 CFR 1506.9

EIS No. 010418, Draft EIS, COE, MS, Yalobusha River Watershed, Demonstration Erosion Control Project, Construction of Six Floodwater-Retarding Structures, Yazoo Basin, Webster, Calhoun and Chickasaw Counties, MS, Due: January 02, 2002, Contact: Wendell King (601) 631-5967. This document is available on the Internet at: http://www.mvk.usace.army.mil/

EIS No. 010419, Draft EIS, AFS, UT, Ray's Valley Road Realignment, Proposal to Reduce or Eliminate Adverse Impacts to Watershed, and Aquatic Species, Provide Safer Driving Conditions, Uinta National Forest, Spanish Fork Ranger District, Utah County, UT, Due: January 02, 2002, Contact: Renee Flanagan (801) 342-5145. This document is available on the Internet at: http://www.fs.fed.us/r4/uinta.

EIS No. 010420, Draft EIS, FHW, LA, Louisiana 1 Improvements Project, Between Golden Meadow to Port Fourchon Construction of Four-Lane Fully Controlled Access Elevated Highway, Funding, COE Section 10 and 404 Permits, NPDES and Coast Guard Bridge Permits, Lafourche Parish, LA, Due: January 07, 2002, Contact: William C. Farr (225) 757-7615.

EIS No. 010421, Final EIS, FHW, MN, I-494 Reconstruction Corridor Study, I-394 on the west to the Minnesota River, Funding and Section 404 Permit, Hennepin County, MN, Due: December 17, 2001, Contact: Stanley Graczyk (651) 291-6119.

EIS No. 010422, Draft EIS, GSA, CA, Los Angeles Federal Building U.S. Courthouse, Proposal to Construct a New U.S. Courthouse in Civic Center Areas of Downtown Los Angeles, City of Los Angeles, Los Angeles County, CA, Due: December 31, 2001, Contact: Javad Soltani (415) 522-3493.

EIS No. 010423, Draft EIS, UAF, OR, Altus Air Force Base (AFB), Proposes Airfield Repairs, Improvements, and Adjustments to Aircrew Training, Install an Instrument Landing System (ILS) and a Microwave Landing System (MLS), Jackson County, OR, Due: December 31, 2001, Contact: Ron Voorhees (210) 652-3656.

EIS No. 010424, Draft Supplement, COE, FL, Central and Southern Florida Project, Water Preserve Areas (WPA) Feasibility Study, To Provide a Mechanism for Increased Aquifer Recharge and Surface and Subsurface Water Storage Capacity, Comprehensive Everglades Restoration Plan, Broward and Miami-Dade Counties, FL, Due: December 31, 2001, Contact: Steve Sutherfield (904) 232-1104.

EIS No. 010425, Final EIS, FAA, NC, Piedmont Triad International Airport, Construction and Operation, Runway 5L/23R and New Overnight Express Air Cargo Sorting and Distribution Facility, and Associated Developments, Funding, NPDES and COE Section 404 Permit, City of Greensboro, Guilford County, NC, Due: December 17, 2001, Contact: Donna M. Meyer (404) 305-7150.

EIS No. 010426, Draft EIS, DOE, KY, Kentucky Pioneer Integrated Gasification Combined Cycle Demonstration Project, Constructing and Operating a 540 megawatt-electric Plant, Clean Coal Technology Program, Clark County, KY, Due: December 31, 2001, Contact: Roy Spears (202) 285-5460.

EIS No. 010427, Draft EIS, AFS, MT, WA, ID, Programmatic EIS—Kootena, Idaho Panhandle, and Lolo National Forests, Forest Plan Amendments for Access Management within the Selkirk and Cabinet-Yaak Grizzly Bear Recovery Zones, ID, WA, MT, Due: December 31, 2001, Contact: Rob Carlin (406) 882-4451.

EIS No. 010428, Draft EIS, FHW, KY, ID, Louisville-Southern Indiana Ohio River Bridges Projects, To Improve Cross-River Mobility between Jefferson County, KY and Clark County, ID, Coast Guard Bridge Permit, COE Section 10 and 404 Permits, Jefferson County, KY and Clark County, ID, Due: February 25, 2002, Contact: John Ballantyne (502) 223-6747. This document is available on the Internet at: http://www.kyinbridges.com.

EIS No. 010429, Draft EIS, COE, TX, Bayport Channel Container/Cruise Terminal Project, To Construct and Operate a Marine Terminal Complex on the Bayport Ship Channel, Issuance of Permit, Section 404 and 10 Permits, Harris County, TX, Due: February 11, 2002, Contact: Kerry M. Stanley (409) 766-6345.

EIS No. 010430, Draft EIS, COE, 00, Mississippi River and Tributaries Morganza, Louisiana to the Gulf of Mexico Hurricane Protection Plan, To Reduce Flood Damages from Tropical Storms and Hurricane Induced Tidal Flooding along Louisiana to the Gulf of Mexico, Due: December 31, 2001, Contact: Nathan Dayan (504) 862-2530.

EIS No. 010431, Draft EIS, SFW, 00, Programmatic EIS-Double crested Cormorant (DCCOs) Management Plan, To Reduce Resource Conflicts, Enhance the Flexibility of Natural Resource Agencies in dealing with DCCO Related Resource Conflicts and to ensure the Conservation of Healthy, Viable DCCO Population, Implementation, The Contiguous United States, Due: January 15, 2002, Contact: Shauna Hanisch (703) 358-1714.

EIS No. 010432, Final Supplement, FTA, WA, Central Link Light Rail Transit Project, (Sound Transit) Construct and Operate an Electric Rail Transit System, Funding and COE Section 10 and 404 Permits, In the Cities of Seattle, Sea Tac and Tuckwila, King County, WA, Due: December 17, 2001, Contact: John Witmer (206) 220-4463.

Amended Notices

EIS No. 010371, Draft Supplement, AFS, CA, Herger-Feinstein Quincy Library Group Forest Act Pilot Project, Proposal to Analyze Options for Maintaining Defensible Fuel Profile Zones (DFPZs), Lassen, Plumas and Tahoe National Forests, Shasta, Lassen, Tehama, Yuba, Plumas and Battle Counties, CA, Due: December 19, 2001, Contact: David Arrasmith (916) 492-7559. Revision of FR Notice Published on 09/28/2001: CEQ Comment Period Ending 11/19/2001 has been extended to 12/19/2001.

EIS No. 010404, Final EIS, AFS, AK, Emerald Bay Timber Sale, Implementation, Ketchikan-Misty Fiords Ranger District, Tongass National Forest, U.S. Coast Guard Bridge Permit, NPDES Permit, and COE Section 10 and 404 Permits, Cleveland Peninsula, AK, Due: December 03, 2001, Contact: Colleen Grundy (907) 228-4114. Revision of FR notice published on 11/02/2001: CEQ Due Date Corrected from 12/10/2001 to 12/03/2001.

EIS No. 010406, Draft EIS, USA, PA, Fort Indiantown Gap National Guard Training Center, To Enhance Training and Operations, Pennsylvania National Guard (PANG), Annville, Dauphin and Lebanon Counties, PA, Due: December 17, 2001, Contact: Richard H. Shertzer (717) 861-2548. Revision of FR notice published on 11/02/2001: CEQ Comment Period Ending 12/10/2001 has been Corrected to 12/17/2001.

Dated: November 13, 2001.
Joseph C. Montgomery,
Director, NEPA Compliance Division, Office of Federal Activities.

[FR Doc. 01-28747 Filed 11-15-01; 8:45 am]

BILLING CODE 6560-50-U